DEPARTMENT OF THE TREASURY

Agency Information Collection Activities; Proposed Collection; Comment Request; Coronavirus State and Local Fiscal Recovery Funds Program

AGENCY: Departmental Offices, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before November 15, 2021.

ADDRESSES: Send comments regarding the burden estimate, or any other aspect of the information collection, including suggestions for reducing the burden, by any of the following methods:

• Federal E-rulemaking Portal: http://www.regulations.gov. Follow the instructions for submitting comments. Refer to Docket Number TREAS-DO-2021-0015 and the specific Office of Management and Budget (OMB) control numbers 1505-0271.

• Mail: Treasury PRA Clearance Officer, 1750 Pennsylvania Ave. NW, Suite 8100, Washington, DC 20220.

FOR FURTHER INFORMATION CONTACT: For questions related to these programs, please contact Katherine Richards by emailing SLFRP@treasury.gov, or calling (844) 529-9527. Additionally, you can view the information collection requests at www.reginfo.gov.

SUPPLEMENTARY INFORMATION:

Title: Coronavirus State and Local Fiscal Recovery Funds.

OMB Control Number: 1505-0271.

Type of Review: Extension of a currently approved collection.

Description: Sections 602 and 603 of the Social Security Act (the “Act”), as added by section 9901 of the American Rescue Plan Act of 2021, Public Law 117-2 (Mar. 11, 2021) authorized the Coronavirus State Fiscal Recovery Fund (“CSFRF”) and Coronavirus Local Fiscal Recovery Fund (“CLFRF”) respectively (referred to as the “Coronavirus State and Local Fiscal Recovery Funds” or “SLFRF”). The Coronavirus State and Local Fiscal Recovery Funds provide $350 billion in total funding for the Department of the Treasury (“Treasury”) to make payments to States (defined to include the District of Columbia), U.S. Territories (defined to include Puerto Rico, U.S. Virgin Islands, Guam, Northern Mariana Islands, and American Samoa), Tribes, Metropolitan cities, Counties, Consolidated Governments, and (through States) Non-entitlement units of local government (collectively the “eligible entities”) to (1) respond to the COVID-19 public health emergency or its negative economic impacts, including providing assistance to households, small business, nonprofits, and impacted industries, such as tourism, travel, and hospitality; (2) respond to workers performing essential work during the COVID-19 pandemic by providing premium pay to eligible workers of the State, U.S. Territory, Tribal government, Metropolitan city, County, or Non-entitlement units of local government who are performing essential work or by providing grants to eligible employers that have eligible workers; (3) provide of government services, to the extent COVID-19 caused a reduction of revenues collected in the most recent full fiscal year of the State, U.S. Territory, Tribal government, Metropolitan city, County, or Non-entitlement units of local government; or (4) make necessary investments in water, sewer, or broadband infrastructure.

Forms: Award and Payment Forms and associated forms; Annual Recovery Performance Plan and Distribution Templates and reporting requirements.

Affected Public: State, Territorial, Tribal, and certain Local Governments.

Estimated Number of Respondents: 44,000.

Frequency of Response: Once, Monthly, Quarterly.

Estimated Total Number of Annual Responses: 44,000.

Estimated Time per Response: 15 minutes to 1 hour for award and payment forms, 5 hours to 100 hours for performance plan, distribution templates and reporting requirements.

Estimated Total Annual Burden Hours: 220,000.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: September 10, 2021.
Molly Stasko,
Treasury PRA Clearance Officer.

[FR Doc. 2021-19963 Filed 9-15-21; 8:45 am]

BILLING CODE 4810-AK-P